FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012288-001.

Title: Hoegh/NYK Atlantic/Pacific Space Charter Agreement.

Parties: Hoegh Autoliners AS and Nippon Yusen Kaisha.

Filing Party: Joshua Stein, Esq.; Cozen O'Connor; 1627 I Street NW., Suite 1100; Washington, DC 20006.

Synopsis: The amendment adds the trade between the U.S. West Coast, on the one hand, and China, South Korea, and Japan, on the other hand, to the geographic scope of the agreement, revises the duration of the agreement, changes the name of the agreement to reflect the new geographic scope, and restates the agreement.

By Order of the Federal Maritime Commission.
Dated: February 20, 2015.
Karen V. Gregory,
Secretary.

[FR Doc. 2015-03893 Filed 2-24-15; 8:45 am]

BILLING CODE 6730-01-P